FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than August 23, 2006.

A. Federal Reserve Bank of Richmond (A. Linwood Gill, III, Vice President) 701 East Byrd Street, Richmond, Virginia 23261-4528:

1. Robert Milam, Jr., to individually retain voting shares of, and Robert Milam, Jr.; Robert Milam; Melissa Milam; Jada Milam; Kevin Milam; Lloyd Jarrell; and other members of the Milam family, as a group acting in concert, to retain voting shares of Big Coal River Bancorp, Inc., Whitesville, West Virginia, and thereby indirectly retain voting shares of Whitesville State Bank, Whitesville, West Virginia.

B. Federal Reserve Bank of Chicago (Patrick M. Wilder, Assistant Vice President) 230 South LaSalle Street, Chicago, Illinois 60690-1414:

1. Ida R. Noll, Springfield, Illinois; to acquire additional voting shares of Midland Bancshares, Inc., Kincaid, Illinois, and thereby indirectly acquire additional voting shares of Midland Community Bank, Kincaid, Illinois.

Board of Governors of the Federal Reserve System, August 3, 2006.
Jennifer J. Johnson,
Secretary of the Board.

[FR Doc. E6-12874 Filed 8-7-06; 8:45 am]

BILLING CODE 6210-01-S